FEDERAL ELECTION COMMISSION

Sunshine Act Notice

AGENCY: Federal Election Commission.

SCHEDULED TO BE PUBLISHED ON JANUARY 17, 2012.

DATES: Date and Time: Thursday, January 19, 2012 at 10 a.m.

Place: 999 E Street NW., Washington, DC (Ninth Floor).

Status: This meeting will be open to the public.

CHANGES IN THE MEETING: The following item has been added to the agenda:

Draft Advisory Opinion 2011-24: Louder Solutions, LLC d/b/a StandLouder.com.

Individuals who plan to attend and require special assistance, such as sign language interpretation or other reasonable accommodations, should contact Shawn Woodhead Werth, Secretary, at (202) 694-1040, at least 72 hours prior to the meeting date.

Person to Contact for Information: Judith Ingram, Press Officer, Telephone: (202) 694-1220.

Shawn Woodhead Werth,
Secretary of the Commission.

[FR Doc. 2012-934 Filed 1-13-12; 11:15 am]

BILLING CODE 6715-01-P